DEPARTMENT OF COMMERCE

International Trade Administration

[A-489-818]

Steel Concrete Reinforcing Bar From Turkey: Preliminary Affirmative Determination of Sales at Less Than Fair Value, Preliminary Affirmative Determination of Critical Circumstances, and Postponement of Final Determination

AGENCY: Enforcement and Compliance, International Trade Administration, Department of Commerce.

SUMMARY: The Department of Commerce (the Department) preliminarily determines that steel concrete reinforcing bar (rebar) from Turkey is being, or is likely to be, sold in the United States at less than fair value (LTFV), as provided in section 733(b) of the Tariff Act of 1930, as amended (the Act). The period of investigation (POI) is July, 2012, through June 30, 2013. The estimated weighted-average dumping margins of sales at LTFV are listed in the “Preliminary Determination” section of this notice. The Department also preliminarily finds that critical circumstances do not exist for Turkey with regard to the two mandatory respondents, Habas Sinai ve Tibbi Gazlar Istihsal Endustrisi A.S. (Habas) and Icdas Celik Enerji Tersane ve Ulasim Sanayi A.S. (Icdas) but do exist for all other producers and exporters of subject merchandise. Finally, in response to a request from Habas, we are postponing the final determination. Accordingly, the final determination will be issued no later than 135 days after the publication of this preliminary determination in the Federal Register. We invite interested parties to comment on this preliminary determination.

DATES: Effective Date: April 24, 2014.

FOR FURTHER INFORMATION CONTACT: Jolanta Lawska (Icdas) or George McMahon (Habas), AD/CVD Operations, Office III, Enforcement and Compliance, International Trade Administration, U.S. Department of Commerce, 14th Street and Constitution Avenue NW., Washington, DC 20230; telephone: (202) 482-8362 or (202) 482-1167, respectively.

SUPPLEMENTARY INFORMATION:

Scope of the Investigation

The merchandise subject to this investigation is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010.

The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). HTSUS numbers are provided for convenience and customs purposes; however, the written description of the scope remains dispositive.

Postponement of Final Determination and Extension of Provisional Measures

Pursuant to section 735(a)(2) of the Act, on April 11, 2014, Habas requested that the Department postpone the final determination and agreed to extend the application of the provisional measures prescribed under section 733(d) of the Act and 19 CFR 351.210(e)(2), from a four-month period to a six-month period.¹ In accordance with section 733(d) of the Act and 19 CFR 351.210(b), because (1) our preliminary determination is affirmative, (2) the requesting exporter accounts for a significant proportion of exports of the subject merchandise, and (3) no compelling reason for denial exists, we are granting the request and are postponing the final determination until no later than 135 days after the publication of the preliminary determination notice in the Federal Register. The Department is further extending the application of the provisional measures from a four-month period to a period not to exceed six-months, and will extend the suspension of liquidation accordingly, pursuant to Habas' request to extend the application of the provisional measures prescribed under sections 735(a)(2)(A) and 733(d) of the Act, and 19 CFR 351.210(b)(2)(ii) and 351.210(e)(2).

¹ See Letter from Habas titled, “Steel Concrete Reinforcing Bar: Request for Extension of the Final Determination and Provisional Measures,” dated April 11, 2014.

Methodology

The Department conducted this investigation in accordance with section 731 of the Act. Export prices have been calculated in accordance with section 772 of the Act. Constructed export prices have been calculated in accordance with section 772(b) of the Act. Normal value has been calculated in accordance with section 773 of the Act. The critical circumstances allegation has been analyzed in accordance with section 733(e)(1) of the Act and 19 CFR 351.206.

For a full description of the methodology underlying our conclusions, see the Preliminary Decision Memorandum ² dated concurrently with and hereby adopted by this notice.³ The Preliminary Decision Memorandum is a public document and is on file electronically via Enforcement and Compliance's Antidumping and Countervailing Duty Centralized Electronic Service System (IA ACCESS). IA ACCESS is available to registered users at http://iaaccess.trade.gov, and is available to all parties in the Central Records Unit, room 7046 of the main Department of Commerce building. In addition, a complete version of the Preliminary Decision Memorandum can be accessed directly on the internet at http://enforcement.trade.gov/frn/. The signed Preliminary Decision Memorandum and the electronic versions of the Preliminary Decision Memorandum are identical in content.

² See Decision Memorandum for the Preliminary Determination of the Investigation of Sales at Less Than Fair Value for Steel Concrete Reinforcing Bar from Turkey, dated April 18, 2014.

³ See Appendix for a listing of issues discussed in the Preliminary Decision Memorandum.

Preliminary Affirmative Determination of Critical Circumstances

On December 4, 2013, Petitioners filed a timely critical circumstances allegation pursuant to section 733(e)(1) of the Act and 19 CFR 351.206(c)(1), alleging that critical circumstances exist with respect to imports of the merchandise under consideration.⁴ We preliminarily determine that critical circumstances do not exist with regard to Habas and Icdas. Further, we preliminarily determine that critical circumstances exist with regard to all other producers and exporters of the merchandise under consideration. For a full description of the methodology and results of our analysis, see the Preliminary Critical Circumstances Memorandum.⁵

⁴ See Petitioners' submission, “Steel Concrete Reinforcing Bar from Turkey: Critical Circumstances Allegation,” dated December 4, 2013.

⁵ See the “Antidumping Duty Investigation: Steel Concrete Reinforcing Bar from Turkey; Preliminary Affirmative Determination of Critical Circumstances, 2012-2013,” from James Doyle, Director, Office V, Antidumping and Countervailing Duty Operations, to Paul Piquado, Assistant Secretary for Enforcement and Compliance, dated concurrently with this determination and hereby adopted by this notice (Preliminary Critical Circumstances Memorandum).

Preliminary Determination

We preliminarily determine that the estimated weighted-average dumping margins are as follows:

Producer or exporter | Estimated weighted- average dumping margin (percent)
Habas Sinai ve Tibbi Gazlar Istihsal Endustrisi A.S. | 0.00
Icdas Celik Enerji Tersane ve Ulasim Sanayi A.S. | 2.64
All Others | 2.64

All Others Rate

Section 735(c)(5)(A) of the Act provides that the estimated “all others” rate shall be an amount equal to the weighted average of the estimated weighted-average dumping margins established for exporters and producers individually examined, excluding all zero or de minimis rates, and all rates determined entirely under section 776 of the Act. Icdas is the only respondent in this investigation for which the Department calculated a company-specific rate which is not zero, de minimis or based entirely on facts available. Therefore, for purposes of determining the “all others” rate and pursuant to section 735(c)(5)(A) of the Act, we are using the weighted-average dumping margin calculated for Icdas, as the estimated weighted-average dumping margin assigned to all other producers and exporters of the merchandise under consideration.⁶

⁶ See, e.g., Notice of Final Determination of Sales at Less Than Fair Value: Stainless Steel Sheet and Strip in Coils From Italy, 64 FR 30750, 30755 (June 8, 1999); and Notice of Preliminary Determination of Sales at Less Than Fair Value and Postponement of Final Determination: Coated Free Sheet Paper from Indonesia, 72 FR 30753, 30757 (June 4, 2007), unchanged in Notice of Final Determination of Sales at Less Than Fair Value: Coated Free Sheet Paper from Indonesia, 72 FR 60636 (October 25, 2007).

Disclosure and Public Comment

The Department intends to disclose to parties with an Administrative Protective Order the calculations performed in connection with this preliminary determination within five days of the date of publication of this notice.⁷ Interested parties are invited to comment on this preliminary determination. Case briefs or other written comments may be submitted to the Assistant Secretary for Enforcement and Compliance via IA ACCESS no later than seven days after the date on which the final verification report is issued in this investigation. Rebuttal briefs, the content of which is limited to the issues raised in the case briefs, must be filed within five days from the deadline date for the submission of case briefs.⁸ A list of authorities used, a table of contents, and an executive summary of issues should accompany all briefs submitted to the Department.⁹ Executive summaries should be limited to five pages total, including footnotes. As noted above, interested parties who wish to comment on the preliminary determination must file briefs electronically using IA ACCESS.¹⁰ An electronically filed document must be received successfully in its entirety by the Department's electronic records system, IA ACCESS, by 5 p.m. Eastern Time on the date the document is due.

⁷ See 19 CFR 351.224(b).

⁸ See 19 CFR 351.309(c), 19 CFR 351.309(d)(1), and 19 CFR 351.309(d)(2).

⁹ See 19 CFR 351.309(c)(2).

¹⁰ See 19 CFR 351.303 (for general filing requirements).

In accordance with section 774 of the Act, the Department will hold a hearing, if timely requested, to afford interested parties an opportunity to comment on arguments raised in the case or rebuttal briefs, provided that such a hearing is requested by an interested party.¹¹ Interested parties who wish to request a hearing, or to participate if one is requested, must submit a written request to the Assistant Secretary for Enforcement and Compliance, U.S. Department of Commerce, filed electronically using IA ACCESS, as noted above. All requests must be received within 30 days after the date of publication of this notice.¹² Requests should contain the following information: (1) The party's name, address, and telephone number; (2) the number of participants; and (3) a list of the issues to be discussed.¹³ If a request for a hearing is made, we will inform parties of the scheduled date for the hearing which will be held at the U.S. Department of Commerce, 14th Street and Constitution Avenue NW., Washington, DC 20230.¹⁴ Parties should confirm by telephone the date, time, and location of the hearing.

¹¹ See also 19 CFR 351.310.

¹² See 19 CFR 351.310(c).

¹³ See id.

¹⁴ See 19 CFR 351.310.

Suspension of Liquidation

In accordance with section 733(d)(2) of the Act, we are directing U.S. Customs and Border Protection (CBP) to suspend liquidation of all entries of rebar from Turkey from companies with above de minimis margins, as described in the scope of the investigation section that are entered, or withdrawn from warehouse, for consumption on or after the date of publication of this notice in the Federal Register, and to require a cash deposit for such entries in the amounts indicated above. Because we preliminarily determine that critical circumstances exist with regard to imports of rebar produced or exported by Turkish firms other than Habas and Icdas, we will direct CBP to apply the suspension of liquidation to any unliquidated entries of rebar from Turkey that are entered, or withdrawn from warehouse, for consumption on or after 90 days prior to the date of publication in the Federal Register of this notice.

We will instruct CBP to require a cash deposit equal to the estimated weighted-average dumping margins, as indicated in the chart above.¹⁵ The suspension of liquidation instructions will remain in effect until further notice.

¹⁵ See Modification of Regulations Regarding the Practice of Accepting Bonds During the Provisional Measures Period in Antidumping Duty Investigations, 76 FR 61042 (October 3, 2011).

U.S. International Trade Commission (ITC) Notification

In accordance with section 733(f) of the Act, we will notify the ITC of our preliminary affirmative determination of sales at LTFV. If our final determination in this proceeding is affirmative, section 735(b)(2) of the Act requires that the ITC make its final determination as to whether the domestic industry in the United States is materially injured, or threatened with material injury, by reason of imports of steel concrete reinforcing bar from Turkey before the later of 120 days after the date of this preliminary determination or 45 days after our final determination.

Notification to Interested Parties

This determination is issued and published pursuant to sections 733(f) and 777(i)(1) of the Act and 19 CFR 351.205(c).

Dated: April 18, 2014.
Paul Piquado,
Assistant Secretary for Enforcement and Compliance.

Appendix

List of Issues Discussed in the Preliminary Decision Memorandum

I. Summary

II. Background

III. Period of Investigation

IV. Postponement of Preliminary Determination

V. Postponement of Final Determination and Extension of Provisional Measures

VI. Scope of the Investigation

VII. Scope Comments

VIII. Selection of Respondents

IX. Physical Characteristics and Model Matching Comments

X. Discussion of the Methodology

A. Fair Value Comparisons

B. Determination of Comparison Method

C. Results of the Differential Pricing Analysis

D. Product Comparisons

E. Date of Sale

F. Export Price

G. Duty Drawback

H. Normal Value

1. Home Market Viability

2. Level of Trade

3. Investigation of Sales Below Costs

a. Calculation of Cost of Production

b. Sales-Below-Costs Test

c. Results of the Sales-Below-Costs Test

4. Constructed Value

5. Price-to-Constructed Value Comparisons

6. Calculation of Normal Value Based on Home Market Prices

I. Currency Conversion

XI. Verification

XII. Conclusion

[FR Doc. 2014-09372 Filed 4-23-14; 8:45 am]

BILLING CODE 3510-DS-P